DEPARTMENT OF THE INTERIOR

Fish and Wildlife Service

[FWS-R9-IA-2011-N167; 96300-1671-0000-P5]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless a Federal permit is issued that allows such activities. The ESA laws require that we invite public comment before issuing these permits.

DATES: We must receive comments or requests for documents on or before September 16, 2011.

ADDRESSES: Brenda Tapia, Division of Management Authority, U.S. Fish and Wildlife Service, 4401 North Fairfax Drive, Room 212, Arlington, VA 22203; fax (703) 358-2280; or e-mail DMAFR@fws.gov.

FOR FURTHER INFORMATION CONTACT: Brenda Tapia, (703) 358-2104 (telephone); (703) 358-2280 (fax); DMAFR@fws.gov (e-mail).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an e-mail or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the address listed under ADDRESSES. The public may review documents and other information applicants have sent in support of the application unless our allowing viewing would violate the Privacy Act or Freedom of Information Act. Before including your address, phone number, e-mail address, or other personal identifying information in your comment, you should be aware that your entire comment—including your personal identifying information—may be made publicly available at any time. While you can ask us in your comment to withhold your personal identifying information from public review, we cannot guarantee that we will be able to do so.

II. Background

To help us carry out our conservation responsibilities for affected species, section 10(a)(1)(A) of the Endangered Species Act of 1973, as amended (16 U.S.C. 1531 et seq.), and our regulations in the Code of Federal Regulations (CFR) at 50 CFR 17, require that we invite public comment before final action on these permit applications.

III. Permit Applications

A. Endangered Species

Applicant: U.S. Geological Survey, San Diego, CA; PRT-41278A

The applicant requests a permit to import biological samples of Fiji crested iguanas (Brachylophus vitiensis), banded igunas (Brachylophus bulabula) and Fiji banded iguanas (Brachylophus fasciatus) from Fiji for the purpose of enhancement of the survival of the species through scientific research. This notification covers activities conducted by the applicant for a 5-year period.

Applicant: Nashville Zoo, Nashville, TN; PRT-48554A

The applicant requests a permit to import two captive-born red-crowned cranes (Grus japonensis) from Birdpark Avifauna, Netherlands for the purpose of enhancement of the survival of the species.

Applicant: Valley Zoological Society dba Gladys Porter Zoo, Brownsville, TX; PRT-48645A

The applicant requests a permit to import two captive held Orinoco crocodiles (Crocodylus intermedius) from Ontario, Canada for the purpose of enhancement of the survival of the species.

Applicant: Morani River Ranch, Uvalde, TX; PRT-49112A

The applicant requests a permit to authorize interstate and foreign commerce, export, and cull of excess barashingh (Rucervus duvauceli), Eld's deer (Rucervus eldii), and Arabian oryx (Oryx leucoryx) from the captive herds maintained at their facility for the purpose of enhancement of the survival of the species. This notification covers activities to be conducted by the applicant over a 5-year period.

Applicant: Hawthorn Corporation, Grayslake, IL; PRT-058735, 058738, 059163, 068350, 068353, 154232, and 154233

The applicant requests permits to re-issue for re-export and re-import tigers (Panthera tigris) to worldwide locations for the purpose of enhancement of the species through conservation education. The permit numbers and animals are: [058735, Sariska; 058738, Calcutta; 059163, Kushka; 068350, Segal; 068353, Pashawn; 154232, Sirit; and 154233, Shakma]. This notification covers activities to be conducted by the applicant over a three-year period and the import of any potential progeny born while overseas.

Multiple Applicants

The following applicants each request a permit to import the sport-hunted trophy of one male bontebok (Damaliscus pygargus pygargus) culled from a captive herd maintained under the management program of the Republic of South Africa, for the purpose of enhancement of the survival of the species.

Applicant: Robert Anderson, Casper, WY; PRT-49064A.

Applicant: John Hodges, Alexander City, AL; PRT-49772A.

Applicant: Christopher Stevens, Keller, TX; PRT-49810A.

Brenda Tapia,
Program Analyst/Data Administrator, Branch of Permits, Division of Management Authority.

[FR Doc. 2011-20960 Filed 8-16-11; 8:45 am]

BILLING CODE 4310-55-P